ENVIRONMENTAL PROTECTION AGENCY

[EPA-HQ-OAR-2010-0162; FRL-9916-26-OAR]

Agency Information Collection Activities; Proposed Collection; Comment Request; Reporting and Recordkeeping Requirements for Greenhouse Gas Emissions Standards and Fuel Efficiency Standards for Medium- and Heavy-Duty Engines and Vehicles

AGENCY: Environmental Protection Agency.

ACTION: Notice.

SUMMARY: The Environmental Protection Agency (EPA) has submitted an information collection request (ICR) “Greenhouse Gas Emissions Standards and Fuel Efficiency Standards for Medium- and Heavy-Duty Engines and Vehicles” (EPA ICR No. 2394.03, OMB Control No. 2060-0678), to the Office of Management and Budget (OMB) for review and approval in accordance with the Paperwork Reduction Act (44 U.S.C. 3501 et seq.). This is a proposed extension of the ICR, which is currently approved through February 28, 2015. Public comments were previously requested via the Federal Register on September 15, 2011 during a 60-day comment period. This notice allows for an additional 60 days for public comments. A fuller description of the ICR is given below, including its estimated burden and cost to the public. An Agency may not conduct or sponsor and a person is not required to respond to a collection of information unless it displays a currently valid OMB control number.

DATES: Additional comments may be submitted on or before November 7, 2014.

ADDRESSES: Submit your comments, referencing Docket ID Number Docket ID No. EPA-HQ-OAR-2010-0162, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Fakhri Hamady, Environmental Protection Agency, 2000 Traverwood Dr., Ann Arbor, MI 48105; telephone number: 734-214-4330; fax number: 734-214-4869; email address: hamady.fakhri@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: For this ICR, EPA is seeking a revision to an existing package with a three year extension. Under ICR 2394.03, EPA collects information regarding Greenhouse Gas Emissions Standards and Fuel Efficiency Standards for Medium- and Heavy-Duty Engines and Vehicles.

Under Title II of the Clean Air Act (42 U.S.C. 7521 et seq.), EPA is charged with issuing certificates of conformity for motor vehicle designs and engines that comply with applicable emission standards set under section 202(a)(1) of the Act, such as those for CO2, N2O, and CH4 in the final regulation. This authority was clarified in the Supreme Court's decision State of Massachusetts v. EPA, 549 U.S. 497 (2007) (holding that greenhouse gases are pollutants under the Clean Air Act). Under the statutory authority of 49 U.S.C. 32902, NHTSA is mandated to require manufacturers comply with fuel economy and consumption standards.

The manufacturers regulated under this program must: (1) Submit applications to certify vehicles; (2) submit reports with early estimates to demonstrate their compliance plans; (3) conduct compliance testing; (4) label certified vehicles; (5) provide final year-end-reports with compliance test results; and (6) retain records of information submitted to the agencies. A manufacturer must send an application for a certificate of conformity and gain approval by EPA before it can legally introduce any vehicle or engine into commerce in the U.S. To ensure compliance with the CAA and EISA, EPA and NHTSA will annually review a manufacturer's submitted information and compliance test results. Manufacturer test results will be used by EPA to perform confirmatory testing on a sufficient number of engines and vehicles to confirm manufacturer-reported results. Limited equipment testing and modeling runs will also be performed by NHTSA to confirm manufacturer test results.

EPA's emission certification programs and NHTSA's fuel efficiency programs are statutorily mandated. EPA does not have discretion to cease these functions. Specifically, under Section 206(a) of the CAA (42 U.S.C. 7521).

EPA and NHTSA also are establishing an Average, Banking and Trading (ABT) program, as outlined in 40 CFR 1036.701 and 1037.701, and in 49 CFR 535.7. Engine and vehicle manufacturers covered by this HD National Program have an option to participate in this ABT program. The agencies' ABT programs, and others like it, are designed to enhance compliance flexibility and reduce the burden on affected manufacturers, without compromising the expected emissions benefits derived from EPA's emissions standards and NHTSA's fuel consumption standards.

The information requested is collected by the Diesel Engine Compliance Center (DECC), Compliance Division (CD), Office of Transportation and Air Quality, Office of Air and Radiation, EPA. DECC uses this information to ensure that manufacturers are in compliance with applicable regulations and the CAA. The information may also be used by EPA's Office of Enforcement and Compliance Assurance and the Department of Justice for enforcement purposes. Most of the information is collected in electronic format and stored in CD's databases.

Manufacturers are allowed to assert a claim of confidentiality over information provided to EPA. Confidentiality is granted in accordance with the Freedom of Information Act and EPA regulations at 40 CFR Part 2. Non-confidential information may be disclosed on OTAQ's Web site or upon request under the Freedom of Information Act to trade associations, environmental groups, and the public.

Form Numbers: None.

Respondents/affected entities: Entities potentially affected by this action are manufacturers of Medium- and Heavy-Duty Engines and Vehicles; owners of heavy-duty truck fleets.

Respondent's obligation to respond: Engine manufacturers must respond to this collection if they wish to sell their products in the US, as prescribed by Section 206(a) of the CAA (42 U.S.C. 7521). Participation in ABT is voluntary, but once a manufacturer has elected to participate, it must submit the required notifications and annual reports (40 CFR 1036.730 and 1037.730). If applicable to a particular engine family, compliance programs reporting is mandatory.

Estimated number of respondents: 34 (total).

Frequency of response: Quarterly, Annually, On Occasion, depending on the type of response.

Total estimated burden: 41,305 hours (per year). Burden is defined at 5 CFR 1320.03(b).

Total estimated cost: $4,565,145 (per year), includes $1,458,333 annualized capital or operation & maintenance costs.

Changes in Estimates: There is no change of hours in the total estimated burden for ICR 2394.03 from the burden currently identified in the OMB Inventory of Approved ICR Burdens.

Dated: August 27, 2014.
Byron J. Bunker,
Director, Compliance Division, Office of Transportation and Air Quality, Office of Air and Radiation.

[FR Doc. 2014-21307 Filed 9-5-14; 8:45 am]

BILLING CODE 6560-50-P